DEPARTMENT OF LABOR

Employment and Training Administration

[TA-W-83,044]

Spirit Aerosystems, Inc., Including On-Site Leased Workers From Logistics Resources, Inc., Adecco, LSI Staffing, Zero Chaos, Apollo, Butler, CTS, Foster Design, Hi-Tek Professionals, Johnson Services Group, Mindlance, Moten Tate, Inc., Manpower, PDS Technical Services, Spencer Reed Group, Strom Aviation, Systemart, Total Technical Services, Vayu, Inc., and Volt Technical Resources Wichita, Kansas; Amended Certification Regarding Eligibility To Apply for Worker Adjustment Assistance

In accordance with Section 223 of the Trade Act of 1974, as amended (“Act”), 19 U.S.C. 2273, the Department of Labor issued a Certification of Eligibility to Apply for Worker Adjustment Assistance on October 18, 2013, applicable to leased workers from Logistics Resources, Inc., Adecco, LSI Staffing, Zero Chaos, Apollo, Butler, CTS, Foster Design, Hi-Tek Professionals, Johnson Services Group, Mindlance, Moten Tate, Inc., Manpower, PDS Technical Services, Spencer Reed Group, Strom Aviation, Systemart, Total Technical Services, Vayu, Inc., and Volt Technical Resources, working on-site at Spirit Aerosystems, Inc., Wichita, Kansas. The Department's Notice of Determination was published in the Federal Register on November 6, 2013 (79 FR 32328).

At the request of a State Workforce Official, the Department reviewed the certification for workers of the subject firm. The workers were engaged in the production of aero-structures.

The investigation confirmed that workers leased from Logistics Resources, Inc., Adecco and LSI Staffing were employed on-site at Spirit Aerosystems, Inc., Wichita, Kansas. The Department has determined that these workers were sufficiently under the control of the subject firm to be considered leased workers.

Based on these findings, the Department is amending this certification to include workers leased from Logistics Resources, Inc., Adecco and LSI Staffing, working on-site at the Wichita, Kansas location of Spirit Aerosystems, Inc.

The amended notice applicable to TA-W-83,044 is hereby issued as follows:

“All workers of Spirit Aerosystems, Inc., including on-site leased workers from Logistics Resources, Inc., Adecco, LSI Staffing, Zero Chaos, Apollo, Butler, CTS, Foster Design, Hi-Tek Professionals, Johnson Services Group, Mindlance, Moten Tate, Inc., Manpower, PDS Technical Services, Spencer Reed Group, Strom Aviation, Systemart, Total Technical Services, Vayu, Inc., and Volt Technical Resources, Wichita, Kansas, (TA-W-83,044) who became totally or partially separated from employment on or after August 29, 2012, through October 18, 2015, and all workers in the group threatened with total or partial separation from the date of certification through October 18, 2015, are eligible to apply for adjustment assistance under Chapter 2 of Title II of the Trade Act of 1974, as amended.”

Signed in Washington, DC, this 31st day of March, 2015.
Michael W. Jaffe,
Certifying Officer, Office of Trade Adjustment Assistance.

[FR Doc. 2015-09652 Filed 4-24-15; 8:45 am]

BILLING CODE 4510-FN-P